DEPARTMENT OF ENERGY

Federal Energy Regulatory Commission

Combined Notice of Filings #1

Take notice that the Commission received the following electric corporate filings:

Docket Numbers: EC16-52-000.

Applicants: Twin Eagle Resource Management, LLC, TERM Holdings, LLC.

Description: Amendment to December 14, 2015 Application under FPA Section 203 of Twin Eagle Resource Management, LLC, et al.

Filed Date: 2/12/16.

Accession Number: 20160212-5170.

Comments Due: 5 p.m. ET 2/22/16.

Docket Numbers: EC16-70-000.

Applicants: Portsmouth Genco, LLC, Virginia Renewable Power—Portsmouth, LLC.

Description: Application for Authorization for Disposition of Jurisdictional Facilities and Request for Expedited Action of Portsmouth Genco, LLC, et al.

Filed Date: 2/12/16.

Accession Number: 20160212-5166.

Comments Due: 5 p.m. ET 3/4/16.

Docket Numbers: EC16-71-000.

Applicants: Prairie Breeze Wind Energy III LLC.

Description: Application for Authorization Under Section 203 of the Federal Power Act and Request for Waivers and Expedited Action of Prairie Breeze Wind Energy III LLC.

Filed Date: 2/12/16.

Accession Number: 20160212-5168.

Comments Due: 5 p.m. ET 3/4/16.

Take notice that the Commission received the following electric rate filings:

Docket Numbers: ER10-2984-025.

Applicants: Merrill Lynch Commodities, Inc.

Description: Notice of Non-Material Change in Status of Merrill Lynch Commodities, Inc.

Filed Date: 2/11/16.

Accession Number: 20160211-5242.

Comments Due: 5 p.m. ET 3/3/16.

Docket Numbers: ER14-543-003.

Applicants: Niagara Mohawk Power Corporation, New York Independent System Operator, Inc.

Description: Compliance filing: NMPC TSC formula compliance revisions to OATT Section 14.1 to be effective 7/1/2013.

Filed Date: 2/12/16.

Accession Number: 20160212-5057.

Comments Due: 5 p.m. ET 3/4/16.

Docket Numbers: ER15-1041-004.

Applicants: Prairie Breeze Wind Energy II LLC.

Description: Notification of Change in Facts of Prairie Breeze Wind Energy II LLC.

Filed Date: 2/11/16.

Accession Number: 20160211-5243.

Comments Due: 5 p.m. ET 3/3/16.

Docket Numbers: ER16-236-001.

Applicants: Public Service Company of Colorado.

Description: Tariff Amendment: 2016-2-12_Att O-PSCo-SPS ADIT Formula Deficiency to be effective 1/1/2016.

Filed Date: 2/12/16.

Accession Number: 20160212-5061.

Comments Due: 5 p.m. ET 3/4/16.

Docket Numbers: ER16-239-001.

Applicants: Public Service Company of Colorado.

Description: Tariff Amendment: 20160212_ADIT Deficiency Letter Response to be effective 1/1/2016.

Filed Date: 2/12/16.

Accession Number: 20160212-5105.

Comments Due: 5 p.m. ET 3/4/16.

Docket Numbers: ER16-933-000.

Applicants: Southern California Edison Company.

Description: § 205(d) Rate Filing: GIA and Distribution Service Agmt San Jacinto Project to be effective 1/30/2016.

Filed Date: 2/12/16.

Accession Number: 20160212-5001.

Comments Due: 5 p.m. ET 3/4/16.

Docket Numbers: ER16-934-000.

Applicants: PJM Interconnection, L.L.C.

Description: § 205(d) Rate Filing: Errata to Correct Metadata to Cancellation of SA No. 3249, Queue No. W2-088 to be effective 2/5/2016.

Filed Date: 2/12/16.

Accession Number: 20160212-5021.

Comments Due: 5 p.m. ET 3/4/16.

Docket Numbers: ER16-935-000.

Applicants: Southern California Edison Company.

Description: § 205(d) Rate Filing: GIA & DSA Cameron Ridge II, LLC Cameron Ridge II Project to be effective 1/15/2016.

Filed Date: 2/12/16.

Accession Number: 20160212-5039.

Comments Due: 5 p.m. ET 3/4/16.

Docket Numbers: ER16-936-000.

Applicants: Midcontinent Independent System Operator, Inc.

Description: § 205(d) Rate Filing: 2016-02-12_SA 2895 WPSC-WPSC FCA (J392) to be effective 2/13/2016.

Filed Date: 2/12/16.

Accession Number: 20160212-5058.

Comments Due: 5 p.m. ET 3/4/16.

Docket Numbers: ER16-937-000.

Applicants: ISO New England Inc., New England Power Pool Participants Committee.

Description: § 205(d) Rate Filing: Revisions to ISO-NE Tariff Related to the Transmission Outage Process to be effective 4/13/2016.

Filed Date: 2/12/16.

Accession Number: 20160212-5144.

Comments Due: 5 p.m. ET 3/4/16.

Take notice that the Commission received the following PURPA 210(m)(3) filings:

Docket Numbers: QM16-1-000.

Applicants: Nebraska Public Power District.

Description: Application of Nebraska Public Power District to Terminate Mandatory Purchase Obligation Under the Public Utility Regulatory Policies Act.

Filed Date: 2/12/16.

Accession Number: 20160212-5139.

Comments Due: 5 p.m. ET 3/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2016.
Nathaniel J. Davis, Sr.,
Deputy Secretary.

[FR Doc. 2016-03611 Filed 2-22-16; 8:45 am]

BILLING CODE 6717-01-P